SECURITIES AND EXCHANGE COMMISSION

[Release No. 34-89795; File No. SR-CboeBZX-2020-003]

Self-Regulatory Organizations; Cboe BZX Exchange, Inc.; Notice of Withdrawal of a Proposed Rule Change, as Modified by Amendment No. 3, To List and Trade Shares of the -1x Short VIX Futures ETF Under BZX Rule 14.11(f)(4), Trust Issued Receipts

September 9, 2020.

On January 3, 2020, Cboe BZX Exchange, Inc. (“BZX” or the “Exchange”) filed with the Securities and Exchange Commission (“Commission”), pursuant to Section 19(b)(1) of the Securities Exchange Act of 1934 (“Act”) ¹ and Rule 19b-4 thereunder,² a proposed rule change to list and trade shares of the -1x Short VIX Futures ETF, a series of VS Trust, under BZX Rule 14.11(f)(4) (Trust Issued Receipts). The proposed rule change was published for comment in the Federal Register on January 23, 2020.³ On February 25, 2020, pursuant to Section 19(b)(2) of the Act,⁴ the Commission designated a longer period within which to approve the proposed rule change, disapprove the proposed rule change, or institute proceedings to determine whether to disapprove the proposed rule change.⁵ On March 24, 2020, the Exchange filed Amendment No. 1 to the proposed rule change, which replaced and superseded the proposed rule change as originally filed.⁶ On April 13, 2020, the Exchange filed Amendment No. 2 to the proposed rule change, which replaced and superseded the proposed rule change, as modified by Amendment No. 1.⁷ On April 22, 2020, the Commission noticed Amendment No. 2 to the proposed rule change and instituted proceedings pursuant to Section 19(b)(2)(B) of the Act ⁸ to determine whether to approve or disapprove the proposed rule change, as modified by Amendment No. 2.⁹ On July 13, 2020, the Commission designated a longer period within which to issue an order approving or disapproving the proposed rule change, as modified by Amendment No. 2.¹⁰ On July 31, 2020, the Exchange filed Amendment No. 3 to the proposed rule change, which replaced and superseded the proposed rule change, as modified by Amendment No. 2.¹¹ On September 4, 2020, the Exchange withdrew the proposed rule change (SR-CboeBZX-2020-003).

¹ 15 U.S.C. 78s(b)(1).

² 17 CFR 240.19b-4.

³ See Securities Exchange Act Release No. 87992 (January 16, 2020), 85 FR 4023. Comments on the proposed rule change are available at: https://www.sec.gov/comments/sr-cboebzx-2020-003/srcboebzx2020003.htm.

⁴ 15 U.S.C. 78s(b)(2).

⁵ See Securities Exchange Act Release No. 88276, 85 FR 12353 (March 2, 2020). The Commission designated April 22, 2020 as the date by which the Commission shall approve or disapprove, or institute proceedings to determine whether to disapprove, the proposed rule change.

⁶ Amendment No. 1 is available at: https://www.sec.gov/comments/sr-cboebzx-2020-003/srcboebzx2020003-6993242-214730.pdf.

⁷ Amendment No. 2 is available at: https://www.sec.gov/comments/sr-cboebzx-2020-003/srcboebzx2020003-7098109-215773.pdf.

⁸ 15 U.S.C. 78s(b)(2)(B).

⁹ See Securities Exchange Act Release No. 88726, 85 FR 23581 (April 28, 2020).

¹⁰ See Securities Exchange Act Release No. 89304, 85 FR 43622 (July 17, 2020). The Commission designated September 19, 2020, as the date by which the Commission shall either approve or disapprove the proposed rule change.

¹¹ Amendment No. 3 is available at: https://www.sec.gov/comments/sr-cboebzx-2020-003/srcboebzx2020003-7570097-222225.pdf.

For the Commission, by the Division of Trading and Markets, pursuant to delegated authority.¹²
¹² 17 CFR 200.30-3(a)(12).
J. Matthew DeLesDernier,
Assistant Secretary.

[FR Doc. 2020-20255 Filed 9-14-20; 8:45 am]

BILLING CODE 8011-01-P